SMALL BUSINESS ADMINISTRATION

National Advisory Council; Public Meeting

The U.S. Small Business Administration (SBA) National Advisory Council (NAC) will hold a public meeting on Thursday, September 7, 2006. The meeting will be held at the Wyndham New Orleans, Canal Place, 100 Rue Iberville, New Orleans, LA 70130. The purpose of the meeting is for the NAC members to provide expert advice, ideas and opinions on SBA programs and small business issues and discuss recent updates pertaining to the delivery of the Agency's programs and services. Information will be presented by members of the council or interested others.

Anyone wishing to attend or participate must contact Balbina Caldwell in writing, phone or e-mail, to be added to the agenda. Balbina Caldwell, Director, National Advisory Council, SBA Headquarters, 409 3rd Street SW., Washington DC 20416, phone (202) 205-6914, e-mail: balbina.caldwell@sba.gov.

For more information about the National Advisory Council, see our Web site at http://www.sba.gov/nac/index.html.

Sincerely,
Stephen D. Kong,
Acting General Counsel.

[FR Doc. E6-13650 Filed 8-17-06; 8:45 am]

BILLING CODE 8025-01-P